DEPARTMENT OF ENERGY

Federal Energy Regulatory Commission

Combined Notice of Filings

Take notice that the Commission has received the following Natural Gas Pipeline Rate and Refund Report filings:

Filings Instituting Proceedings

Docket Number: PR17-7-000.

Applicants: NorthWestern Corporation.

Description: Tariff filing per 284.123(b),(e): Revised Rate Schedules for Transportation and Storage Service to be effective 11/1/2016; Filing Type: 1000.

Filed Date: 11/21/2016.

Accession Number: 20161121-5071.

Comments/Protests Due: 5 p.m. ET 12/12/16.

Docket Number: PR17-8-000.

Applicants: Columbia Gas of Maryland, Inc.

Description: Tariff filing per 284.123(b),(e): CMD SOC to be effective 10/27/2016; Filing Type: 980.

Filed Date: 11/21/2016.

Accession Number: 20161121-5185.

Comments/Protests Due: 5 p.m. ET 12/12/16.

Docket Numbers: RP17-194-000.

Applicants: Sierrita Gas Pipeline LLC.

Description: Annual Operational Purchases and Sales Report of Sierrita Gas Pipeline LLC under RP17-194.

Filed Date: 11/22/16.

Accession Number: 20161122-5140.

Comments Due: 5 p.m. ET 12/5/16.

Docket Numbers: RP17-195-000.

Applicants: National Fuel Gas Supply Corporation.

Description: Compliance filing TSCA Informational Filing (11-22-16).

Filed Date: 11/22/16.

Accession Number: 20161122-5173.

Comments Due: 5 p.m. ET 12/5/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated November 23, 2016.
Nathaniel J. Davis, Sr.,
Deputy Secretary.

[FR Doc. 2016-28810 Filed 11-29-16; 8:45 am]

BILLING CODE 6717-01-P